DEPARTMENT OF STATE

[Public Notice 6530]

Bureau of Educational and Cultural Affairs (ECA) Request for Grant Proposals: EducationUSA Advising Coordination and Support Program

Announcement Type: New Cooperative Agreement Funding.

Opportunity Number: ECA/A/S/A-10-03.

Catalog of Federal Domestic Assistance Number: 00.000.

Key Dates: Program Start Date: October 1, 2009 (pending the availability of funds).

Application Deadline: April 24, 2009.

Executive Summary: The Educational Information and Resources Branch in the Office of Global Educational Programs of the Bureau of Educational and Cultural Affairs (ECA) announces an open competition for up to five assistance awards to administer components of the Office's EducationUSA Advising Coordination and Support Program in Fiscal Year 2010. Public and private non-profit organizations or consortia of eligible organizations meeting the provisions described in Internal Revenue Code section 501(c)(3) may submit proposals to cooperate with the Bureau in the administration of the EducationUSA Advising Coordination and Support Program as noted below.

To facilitate effective communication between ECA's Educational Information and Resources Branch (ECA/A/S/A) and the organizations cooperating on this program, award recipients must have a Washington, DC presence. Applicants who do not currently have a Washington, DC presence must include in their proposals a detailed plan for establishing such a presence by October 1, 2009. The costs related to establishing such a presence must be borne by the award recipient. No such costs may be included in the budget submission in this proposal. The award recipient must have e-mail capability, access to Internet resources, and the ability to exchange data electronically with all partners involved in the EducationUSA Advising Coordination and Support Program.

The goal of this program is to increase student mobility between the United States and other countries by providing support to EducationUSA, the network of overseas educational advising centers affiliated with the Department of State. EducationUSA centers operate in a wide variety of institutional settings around the world, including binational Fulbright Commissions, Public Affairs Sections of U.S. Embassies, independent binational centers, foreign universities, and the overseas offices of U.S. non-government organizations. The support of the Bureau of Educational and Cultural Affairs for these centers varies by center and region, and ranges from support for educational resources and the professional development of advising staffs to, in a limited number of locations, direct support for office operations. In addition, all EducationUSA centers receive specialized, highly tailored advice from Bureau-supported regional and country educational advising coordinators who currently are based in fourteen locations in every world region.

EducationUSA centers are catalysts for the enrollment in U.S. colleges and universities of students and scholars sponsored by the U.S. government and by other sponsors as well as students and scholars seeking U.S. study opportunities independently. The advising staffs at EducationUSA centers provide comprehensive, balanced advice about the complex range of higher educational opportunities in the United States to international students, parents, scholars, and foreign government officials. EducationUSA centers also assist U.S. institutions of higher education in their overseas outreach efforts. In addition, the EducationUSA network encourages study abroad by Americans and the development of study abroad opportunities by U.S. universities. The use of the EducationUSA logo is critical to the identity of the network. More information on the network and a current EducationUSA center list is located at http://www.educationusa.state.gov.

Applicant organizations may submit proposals for the following components of the EducationUSA Advising Coordination and Support Program:

Component A: Regional and Country EducationUSA Advising Coordination

One recipient organization will provide programmatic oversight, maintain channels of communication, organize professional development opportunities and provide logistical support and human resources services to regional and country advising coordinators as follows:

• Regional Educational Advising Coordinators (REACs) based in Sub-Saharan Africa (two locations), Europe and Eurasia (two or more locations), East Asia and the Pacific (three locations including China, North Asia and Southeast Asia), North Africa and the Middle East, South and Central Asia (two or more locations, including India), and the Western Hemisphere (three locations, including Mexico, Brazil, and a country on the Pacific coast of South America). Applicant organizations may propose specific locations within the countries and regions specified above.

• Country Coordinators based in Brazil, China, Indonesia, Russia, and Vietnam. Applicant organizations may propose specific locations within these countries.

The recipient organization will support the EducationUSA advising effort through coordinated outreach and marketing to international student audiences, on-going communication of substantive advice about educational issues to EducationUSA centers, and the innovative use of technology. The marketing effort should be coordinated by a full-time marketing coordinator whose responsibilities should include the coordination of updated online materials in key languages such as Persian, Russian, Chinese, Arabic, Spanish, French, Portuguese, Japanese, Bahasa Indonesia and Vietnamese. Other languages may be included based on consultation with ECA/A/S/A. The recipient organization will also ensure that the coordinators prepare and provide to the Bureau, U.S. embassies and Fulbright commissions annual assessments of current issues faced by EducationUSA advising centers with specific reference to regional trends in student mobility. Coordinators should also provide, for review and approval by ECA/A/S/A, periodic recommendations of reference materials, equipment, and professional development opportunities to meet the needs of EducationUSA centers and their advising staffs in the coordinators' countries or regions of responsibility. Additional information about Component A is provided in the Project Objectives, Goals and Implementation (POGI).

Component B: EducationUSA Center Advising Support

One or more recipient organizations will provide operational support to EducationUSA advising centers in the following regions:

(1) Eurasia/Central Asia (Armenia, Azerbaijan, Belarus, Georgia, Kazakhstan, Kyrgyzstan, Moldova, Russia, Tajikistan, Turkmenistan and Ukraine).

(2) Middle East/North Africa (Egypt, Gaza, Jordan, Kuwait, Lebanon, Morocco, Oman, Syria, Tunisia, West Bank, and Yemen).

(3) East Asia (China, Mongolia, Vietnam).

(4) Western Hemisphere (Guatemala, Mexico).

Although educational advising centers belonging to the EducationUSA network in countries and regions not listed above may not receive direct operational support from the Bureau under Component B of this program, all EducationUSA advising centers worldwide will be eligible for support from the Bureau for professional development, reference materials, equipment, outreach efforts, and coordinator support through Component A and other mechanisms.

In addition, support for EducationUSA centers in Eurasia/Central Asia and the Middle East/North Africa includes administrative and program support for a program of Opportunity Scholarships. This program provides support to well qualified international students of limited financial means to cover the up-front costs of applying for admission and financial aid, as well as the costs of visas and international travel. Proposals should address how the organization will engage educational advisers in the identification of candidates and how the administrative efforts in the affected advising centers will give priority to this initiative.

Proposals for the Middle East/North Africa may include requests for support for online outreach to Iranians in English and Persian.

Additional information about Component B, including a list of countries in which EducationUSA Centers are currently eligible to participate in the Opportunity scholarships program, is provided in the Project Objectives, Goals and Implementation (POGI).

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: To facilitate and increase the flow of international students to the U.S. in an effort to deepen and expand understanding of U.S. society, culture, and values in other countries, and to expand the understanding of foreign cultures and societies by Americans through the increased participation of U.S. students in academically sound study abroad programs in a widening range of international locations, especially in non-traditional study abroad destinations. The work of EducationUSA centers is critical to the Bureau's pursuit of these objectives.

Additional Guidelines

Applicant organizations must submit separate proposals with budgets and narratives outlining a comprehensive strategy for the administration and implementation of each program component for which they are applying:

Component A: Regional and Country EducationUSA Advising Coordination;

Component B: EducationUSA Center Advising Support (in one or more of four specified regions—Eurasia/Central Asia, Middle East/North Africa, East Asia, and the Western Hemisphere).

Organizations may apply for either or both components of the program and for one or more regions under Component B. Organizations submitting proposals under Component B for more than one region should submit one proposal for each region proposed. Each proposal submitted for this competition should reflect a vision that includes innovative ideas and recommendations.

The narrative portion of the proposal for each program component should not exceed 20 pages. Proposals may utilize appendices to illustrate elements of the narrative. Applicants must also provide a separate administrative and program budget for each program component. Where possible, proposals for more than one component or for more than one region under Component B should reflect economies of scale and demonstrate administrative efficiencies.

Please refer to the Project Objectives, Goals and Implementation (POGI) for further information.

II. Award Information

Type of Award: Cooperative Agreement(s). In a cooperative agreement, the Bureau is substantially involved in program activities above and beyond routine monitoring. ECA/A/S/A activities and responsibilities for this program are to:

• Participate in staff selection, review staffing requirements, travel plans, budgets, and policy guidance and direction;

• Maintain direct role in monitoring coordinators' relationships with advisers, Public Affairs Sections, ECA offices, U.S. universities and other organizations;

• Assist, where necessary and possible, with requirements for coordinator access to U.S. embassies. Where possible, arrange for APO or pouch privileges for coordinators to facilitate receipt of educational materials;

• Consult coordinators on the development of annual regional strategic plans; approve travel plans, adviser travel grants, professional development, workshops, venues, agendas; consult regarding substantive advising issues;

• Assist with meetings of regional and country coordinators;

• Meet with coordinators on other occasions as necessary;

• Work with Public Affairs sections at U.S. embassies and consulates to oversee and evaluate the quality of advising services and to identify appropriate center locations;

• Review for approval requests for funding for reference materials, workshops, and outreach.

The amount that will be available for this program in FY2010 resources cannot be determined until FY2010 funds are appropriated. However, for planning purposes applicant organizations may submit budgets in this competition in the amounts noted below.

Fiscal Year Funds: FY2010

Approximate Total Funding: Approximately $7,900,000, pending availability of FY2010 funds.

Component A: Regional and Country EducationUSA Advising Coordination—approximately $4,300,000.

Component B: EducationUSA Advising Support:

a. Eurasia/Central Asia—approximately $1,700,000.

b. Middle East/North Africa—approximately $800,000.

c. East Asia—up to approximately $1,000,000.

d. Western Hemisphere—approximately $100,000.

Approximate Number of Awards: At least two, not more than five.

Approximate Average Award: Not Applicable.

Floor of Award Range: approximately $100,000.

Ceiling of Award Range: approximately $4,300,000.

Anticipated Award Date: Pending availability of funds, October 1, 2009.

Additional Information: Pending successful implementation of this program and the availability of funds in subsequent fiscal years, it is ECA's intent to renew cooperative agreements issued in response to this solicitation for up to two additional fiscal years, before openly competing the programs again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: (a.) Bureau grant guidelines require that organizations with less than four years experience in conducting international exchanges be limited to $60,000 in Bureau funding. ECA anticipates making between two and five awards, in amounts over $60,000 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1 Contact Information to Request an Application Package: Please contact the Office of Global Educational Programs, ECA/A/S/A, Room 349, U.S. Department of State, SA-44, 301 4th Street, SW., Washington, DC 20547, telephone: 202-453-8866, fax number: 202-453-8890, e-mail: MoraDD@state.gov to request a Solicitation Package. Please refer to the Funding Opportunity Number ECA/A/S//A-10-03 located at the top of this announcement when making your request. Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Dorothy Mora, Program Officer, and refer to the Funding Opportunity Number ECA/A/S/A-10-03 located at the top of this announcement on all other inquiries and correspondence.

IV.2. To Download a Solicitation Package Via Internet: The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package. It contains the mandatory Proposal Submission Instructions (PSI) document and the Project Objectives, Goals and Implementation (POGI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing the J Visa: For applicants' information only, the Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. The award recipient will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2 Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it: (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. Describe your plans for: i.e. sustainability, overall program management, staffing, coordination with ECA and PAS or any other requirements etc.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification. Indirect costs may not be charged against participant program costs.

IV.3e.2. Allowable costs for the program include the following:

(1) REAC manager, Regional and Country Coordinator, and Marketing/Technology Coordinator salaries, benefits, health insurance, retirement;

(2) Costs for coordinator professional development and for facilitating communication and information flow among coordinators and with advising centers;

(3) Part-time assistant salaries;

(4) Coordinator travel;

(5) Logistical support and equipment;

(6) Cost of organizing regional adviser professional development programs;

(7) Advising center staff salaries and benefits;

(8) Reference materials, computer equipment for centers and coordinators;

(9) Office supplies and expenses, including rent, communications, postage and shipping;

(10) Outreach, publicity, and special projects costs;

(11) Indirect costs. Indirect costs may not be charged against participant program costs.

Please refer to the Solicitation Package for complete budget guidelines and formatting instructions.

IV.3f. Application Deadline and Methods of Submission:

Application Deadline Date: Friday, April 24, 2009.

Reference Number: ECA/A/S/A-10-03.

Methods of Submission: Applications may be submitted in one of two ways:

(1.) In hard-copy, via a nationally recognized overnight delivery service (i.e., DHL, Federal Express, UPS, Airborne Express, or U.S. Postal Service Express Overnight Mail, etc.), or

(2.) Electronically through http://www.grants.gov.

Along with the Project Title, all applicants must enter the above Reference Number in Box 11 on the SF-424 contained in the mandatory Proposal Submission Instructions (PSI) of the solicitation document.

IV.3f.1 Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight copies of the application should be sent to: U.S. Department of State, SA-44, Bureau of Educational and Cultural Affairs, Ref.: ECA/A/S/A-10-03, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Sections at the U.S. embassies for their review.

IV.3f.2—Submitting Electronic Applications: Applicants have the option of submitting proposals electronically through Grants.gov (http://www.grants.gov). Complete solicitation packages are available at Grants.gov in the “Find” portion of the system. Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation.

Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

Optional—IV.3f.3 You may also state here any limitations on the number of applications that an applicant may submit and make it clear whether the limitation is on the submitting organization, individual program director or both.

IV.3g. Intergovernmental Review of Applications: Executive Order 12372 does not apply to this program.

V. Application Review Information

V.1. Review Process: The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning/Ability to achieve program objectives: Detailed agenda and relevant work plan should demonstrate substantive undertakings and logistical capacity. Agenda and plan should adhere to the program overview and guidelines described above. Objectives should be reasonable, feasible, and flexible. Proposals should clearly demonstrate how the institution will meet the program's objectives and plan.

3. Multiplier effect/impact: Proposed programs should strengthen long-term mutual understanding, including maximum sharing of information and establishment of long-term institutional and individual linkages.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity/Institution's Record/Ability: Proposed personnel and institutional resources should be adequate and appropriate to achieve the program or project's goals. Proposals should demonstrate an institutional record of successful exchange programs, including responsible fiscal management and full compliance with all reporting requirements for past Bureau awards (grants or cooperative agreements) as determined by Bureau Grants Staff. The Bureau will consider the past performance of prior recipients and the demonstrated potential of new applicants.

6. Follow-on Activities: Proposals should provide a plan for continued follow-on activity (without Bureau support) ensuring that Bureau supported programs are not isolated events.

7. Project Evaluation: Proposals should include a plan to evaluate the activity's success, both as the activities unfold and at the end of the program. A draft survey questionnaire or other technique plus description of a methodology to use to link outcomes to original project objectives is recommended.

8. Cost-effectiveness: The overhead and administrative components of the proposal, including salaries and honoraria, should be kept as low as possible. All other items should be necessary and appropriate. Proposals should maximize cost-sharing through other private sector support as well as institutional direct funding contributions.

VI. Award Administration Information

VI.1a. Award Notices: Final awards cannot be made until funds have been appropriated by Congress, allocated and committed through internal Bureau procedures. Successful applicants will receive an Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b. The following additional requirements apply to this project:

For assistance awards involving Iran: A critical component of current U.S. government Iran policy is the support for indigenous Iranian voices. The State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. 2339A and 2339B; Executive Order 13224; and Homeland Security Presidential Directive 6. These licensing conditions mandate that the Department conduct a vetting of potential Iran grantees and sub-grantees for counter-terrorism purposes. To conduct this vetting the Department will collect information from grantees and sub-grantees regarding the identity and background of their key employees and Boards of Directors.

Note: To assure that planning for the inclusion of Iran complies with requirements, please contact ECA/A/S/A Program Officer Bahareh Moradi, 202-453-8885, e-mail: MoradiBX@state.gov for additional information.

For assistance awards involving the Palestinian Authority, West Bank, and Gaza: All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact ECA/A/S/A Program Officer Amy Forest, 202-453-8866, e-mail: ForestAL@state.gov, for additional information.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://fa.statebuy.state.gov.

VI.3. Reporting Requirements: You must provide ECA with a hard copy original plus two copies of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Semi-annual financial reports which should show the actual amounts generated and that these funds are applied to support advising services. All such income must be enumerated on Financial Status Report “Long Form 269.” Program reports should also show how using such income reinforces the goals and objectives of this grant.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Dorothy Mora, Educational Information and Resources Branch, ECA/A/S/A, Room 349, ECA/A/S/A-10-03, U.S. Department of State, SA-44, 301 4th Street, SW., Washington, DC 20547, phone: 202-453-8868, fax: 202-453-8890, e-mail: MoraDD@state.gov.

All correspondence with the Bureau concerning this RFGP should reference the above title and number ECA/A/S/A-10-03. Please read the complete announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: February 10, 2009.
C. Miller Crouch,
Acting Assistant Secretary for Educational and Cultural Affairs, Department of State.

[FR Doc. E9-3533 Filed 2-18-09; 8:45 am]

BILLING CODE 4710-05-P